DEPARTMENT OF THE INTERIOR

National Park Service

[NPS-WASO-NAGPRA-NPS0027463; PPWOCRADN0-PCU00RP14.R50000]

Notice of Intent To Repatriate Cultural Items: Nebraska State Historical Society, DBA History Nebraska, Lincoln, NE

AGENCY: National Park Service, Interior.

ACTION: Notice.

SUMMARY: History Nebraska, in consultation with the appropriate Indian Tribes or Native Hawaiian organizations, has determined that the cultural items listed in this notice meet the definition of a sacred object. Lineal descendants or representatives of any Indian Tribe or Native Hawaiian organization not identified in this notice that wish to claim this cultural item should submit a written request to History Nebraska. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to History Nebraska at the address in this notice by May 24, 2019.

ADDRESSES: Trisha Nelson, History Nebraska, 1500 R Street, Lincoln, NE 68508-1651, telephone (402) 471-4760, email trisha.nelson@nebraska.gov.

SUPPLEMENTARY INFORMATION: Notice is here given in accordance with the Native American Graves Protection and Repatriation Act (NAGPRA), 25 U.S.C. 3005, of the intent to repatriate cultural items under the control of History Nebraska, Lincoln, NE, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

On July 17, 1962, Charles A. Walker, a member of the Omaha Tribe of Nebraska, donated a trunk containing medicinal bundles to History Nebraska (then known as the Nebraska State Historical Society). In a letter dated July 9, 1962, Mr. Walker asked then-director Marvin Kivett if the Nebraska State Historical Society could preserve the “Indian relic known as bundle.” Mr. Kivett drove to the Omaha reservation in Thurston County, NE, and picked up the trunk on July 17, 1962. The trunk and its contents had been owned by Charles Walker's grandfather, Alan Walker (mistakenly noted as ELLEN Walker in History Nebraska's records), who reportedly died in 1907, at the age of 69. The collection was reported to have been previously owned by Alan Walker's father.

On June 21, 2018, Marisa Cummings, a lineal descendant of Charles Walker and Alan Walker, requested the repatriation of the trunk collection as a sacred object. History Nebraska first initiated consultation on this collection by sending a NAGPRA summary to the Omaha Tribe of Nebraska in November of 1993. History Nebraska reinitiated consultation with the Omaha Tribe of Nebraska in June of 2018. On September 26, 2018, the Omaha Tribe of Nebraska requested the repatriation of the trunk collection as an object of cultural patrimony.

Determinations Made by History Nebraska

Officials of History Nebraska have determined that:

• Pursuant to 25 U.S.C. 3001(3)(C), the one cultural item described above contains specific ceremonial objects needed by traditional Native American religious leaders for the practice of traditional Native American religions by their present-day adherents;

• Pursuant to 25 U.S.C. 3005(a)(5)(A) and 43 CFR 10.2(b)(1), Marissa Cummings is the direct lineal descendant of the individual who owned the sacred object;

• Pursuant to 25 U.S.C. 3005(b), the sacred object is not indispensable for any specific scientific study;

• Pursuant to 25 U.S.C. 3005(c), History Nebraska does not have right of possession to the sacred object; and

• Pursuant to 25 U.S.C. 3005(e), Marissa Cummings is the most appropriate claimant.

Additional Requestors and Disposition

Lineal descendants or representatives of any Indian Tribe or Native Hawaiian organization not identified in this notice that wish to claim these cultural items should submit a written request with information in support of the claim to Trisha Nelson, History Nebraska, 1500 R Street, Lincoln, NE 68508-1651, telephone (402) 471-4760, email trisha.nelson@nebraska.gov, by May 24, 2019. After that date, if no additional claimants have come forward, transfer of control of the sacred objects to Marissa Cummings may proceed.

History Nebraska is responsible for notifying Marissa Cummings and the Omaha Tribe of Nebraska that this notice has been published.

Dated: March 11, 2019.
Melanie O'Brien,
Manager, National NAGPRA Program.

[FR Doc. 2019-08234 Filed 4-23-19; 8:45 am]

BILLING CODE 4312-52-P